DEPARTMENT OF ENERGY

Federal Energy Regulatory Commission

Notice of Effectiveness of Exempt Wholesale Generator Status

Panda Liberty LLC | EG15-92-000
Panda Patriot LLC | EG15-93-000
Panda Stonewall LLC | EG15-94-000
Blue Sky West, LLC | EG15-95-000
87RL 8me LLC | EG15-96-000
Route 66 Wind Power, LLC | EG15-97-000
North Star Solar, LLC | EG15-98-000
Indeck Corinth Limited Partnership | EG15-99-000
Greenleaf Energy Unit 1 LLC | EG15-100-000
Slate Creek Wind Project, LLC | EG15-101-000

Take notice that during the month of August 2015, the status of the above-captioned entities as Exempt Wholesale Generators became effective by operation of the Commission's regulations. 18 CFR 366.7(a).

Dated: September 3, 2015.
Nathaniel J. Davis, Sr.,
Deputy Secretary.

[FR Doc. 2015-24377 Filed 9-24-15; 8:45 am]

BILLING CODE 6717-01-P